DEPARTMENT OF THE INTERIOR

Geological Survey

[GX18SJ00LZM0100; OMB Control Number 1028-New]

Agency Information Collection Activities; Rio Grande Basin Conservation Database

AGENCY: U.S. Geological Survey, Interior.

ACTION: Notice of information collection; request for comment.

SUMMARY: In accordance with the Paperwork Reduction Act of 1995, we, the U.S. Geological Survey (USGS) are proposing a new information collection.

DATES: Interested persons are invited to submit comments on or before July 29, 2019.

ADDRESSES: Send your comments on the information collection request (ICR) by mail to the U.S. Geological Survey, Information Collections Clearance Officer, 12201 Sunrise Valley Drive, MS 159, Reston, VA 20192; or by email to gs-info_collections@usgs.gov. Please reference OMB Control Number 1028-New Rio Grande Basin Conservation Database, in the subject line of your comments.

FOR FURTHER INFORMATION CONTACT: To request additional information about this ICR, contact Delbert Humberson by email at dhumberson@usgs.gov, or by telephone at (512) 436-1146.

SUPPLEMENTARY INFORMATION: In accordance with the Paperwork Reduction Act of 1995, we provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Abstract: USGS will reach out to approximately 500 organizations previously identified by the Desert Landscape Conservation Cooperative (DLCC) to solicit conservation project data from within the Rio Grande Basin. Requested data will include information such the project's purpose, location, conservation activities, achievements, group overseeing the project, and project contact information. These data will be assembled into a geodatabase that will be stored on ScienceBase.gov for general distribution to the public. The geodatabase will be accompanied by a USGS Open-File report that documents the results of the survey and provides a user-manual for the geodatabase. This geodatabase will also be used to drive web map services on DataBasin.org. The goal of this effort is to address a need that was identified by DLCC partners to improve how resource managers in the Rio Grande Basin can coordinate their conservation efforts to help manage the river in a way that meets municipal, industrial, and environmental needs.

Title of Collection: Rio Grande Basin Conservation Database.

OMB Control Number: 1028-New.

Form Number: NA.

Type of Review: New.

Respondents/Affected Public: Respondents will include public and private land owners, and local, state and Federal entities.

Total Estimated Number of Annual Respondents: 500.

Total Estimated Number of Annual Responses: 500.

Estimated Completion Time per Response: 20 minutes.

Total Estimated Number of Annual Burden Hours: 167.

Respondent's Obligation: Voluntary.

Frequency of Collection: One time.

Total Estimated Annual Non-hour Burden Cost: $0.

An agency may not conduct or sponsor and a person is not required to respond to a collection of information unless it displays a currently valid OMB control number.

The authorities for this action are the Paperwork Reduction Act of 1995 (44 U.S.C. 3501, et seq.).

Meghan Roussel,
Deputy Director, Texas Water Science Center.

[FR Doc. 2019-11092 Filed 5-28-19; 8:45 am]

BILLING CODE 4338-11-P